DEPARTMENT OF HEALTH AND HUMAN SERVICES

Centers for Medicare & Medicaid Services

[Document Identifier: CMS-10371, CMS-10507, CMS-10558 and CMS-10650]

Agency Information Collection Activities: Submission for OMB Review; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected; and the use of automated collection techniques or other forms of information technology to minimize the information collection burden.

DATES: Comments on the collection(s) of information must be received by the OMB desk officer by September 25, 2017.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 OR Email: OIRA_submission@omb.eop.gov.

To obtain copies of a supporting statement and any related forms for the proposed collection(s) summarized in this notice, you may make your request using one of following:

1. Access CMS' Web site address at https://www.cms.gov/Regulations-and-Guidance/Legislation/PaperworkReductionActof1995/PRA-Listing.html.

2. Email your request, including your address, phone number, OMB number, and CMS document identifier, to Paperwork@cms.hhs.gov.

3. Call the Reports Clearance Office at (410) 786-1326.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of an existing information collection request; Title of Information Collection: Cooperative Agreements to Support Establishment of State-Operated Health Insurance Exchanges; Use: All States (including the 50 States, consortia of States, and the District of Columbia herein referred to as States) had the opportunity under Section 1311(b) of the Affordable Care to apply for three types of grants: (1) Planning grants; (2) Early Innovator grants for early development of information technology; and (3) Establishment grants to develop, implement and start-up Marketplaces. As of January 1st, 2017, the Secretary has disbursed over $5.4 billion under this grant program and, as of that date, there were 19 active establishment grants awarded to 12 states. As the State-Based Marketplaces (SBM) and Small Business Health Options Program (SHOP) have matured and moved from the developmental phases to full-operation, the reporting requirements for the states have been modified and streamlined to insure only information necessary to provide effective oversight of their operations by CMS is collected.

Given the innovative nature of Exchanges and the statutorily-prescribed relationship between the Secretary and States in their development and operation, it is critical that the Secretary work closely with States to provide necessary guidance and technical assistance to ensure that States can meet the prescribed timelines, federal requirements, and goals of the statute and the grants awarded to them. Form Number: CMS-10371 (OMB Control Number: 0938-1119); Frequency: Once; Affected Public: State Government agencies, non-profit entities; Number of Respondents: 17; Total Annual Responses: 37; Total Annual Hours: 12,328. (For policy questions regarding this collection contact Nickom Sukachevin at (301) 492-4400).

2. Type of Information Collection Request: Reinstatement without change of a previously approved information collection; Title of Information Collection: State-based Marketplace Annual Reporting Tool (SMART); Use: The annual report is the primary vehicle to insure comprehensive compliance with all reporting requirements contained in the Affordable Care Act (ACA). It is specifically called for in Section 1313(a)(1) of the Act which requires an SBM to keep an accurate accounting of all activities, receipts, and expenditures, and to submit a report annually to the Secretary concerning such accounting. CMS will use the information collected from States to assist in determining if a State is maintaining a compliant operational Exchange. Form Number: CMS-10507 (OMB Control Number: 0938-1244); Frequency: Annually; Affected Public: State, Local, or Tribal governments; Number of Respondents: 17; Total Annual Responses: 17; Total Annual Hours: 1,173. (For policy questions regarding this collection contact Christy Woods at 301-492-5140).

3. Title of Information Collection: Machine Readable Data for Provider Network and Prescription Formulary Content for FFM QHPs; Type of Information Collection Request: Extension without change of a currently approved collection; Use: Under 45 CFR 156.122(d)(1)(2) and 156.230(c) and in the final rule, Patient Protection and Affordable Care Act; HHS Notice of Benefit and Payment Parameters for 2018 (CMS-9934-F), standards for qualified health plan (QHP) issuers are established for the submission of provider and formulary data in a machine-readable format to the Department of Health and Human Services (HHS) and for posting on issuer Web sites. These standards provide greater transparency for consumers, including by allowing software developers to access formulary and provider data to create innovative and informative tools. This Information Collection Request (ICR) serves as a formal request for 3-year OMB approval. On September 30, 2015, the Office of Management and Budget (OMB) granted approval to the data collection Information Collection for Machine Readable Data for Provider Network and Prescription Formulary Content for FFM QHPs.

The burden estimates for the data collection requirements included in this package reflect the time and effort for QHP issuers to update and publish the appropriate data, and submit it to CMS. Form Number: CMS-10558 (OMB) control number: 0938-1284); Frequency: Annually; Affected Public: Private Sector, State, Business, and Not-for Profits; Number of Respondents: 397; Number of Responses: 397; Total Hours: 208. (For questions regarding this collection, contact Joshua Annas at (301) 492-4407).

4. Title of Information Collection: State Permissions for Enrollment in Qualified Health Plans in the Federally Facilitated Exchange & Non-Exchange Entities; Type of Information Collection Request: Request for a new OMB control number; Use: The Patient Protection and Affordable Care Act, Public Law 111-148, enacted on March 23, 2010, and the Health Care and Education Reconciliation Act, Public Law 111-152, enacted on March 30, 2010 (collectively, “Affordable Care Act”), expand access to health insurance for individuals and employees of small businesses through the establishment of new Affordable Insurance Exchanges (Exchanges), also called Marketplaces, including the Small Business Health Options Program (SHOP). The Exchanges, which became operational on January 1, 2014, enhance competition in the health insurance market, expand access to affordable health insurance for millions of Americans, and provide consumers with a place to easily compare and shop for health insurance coverage.

This Information Collection Request (ICR) serves as the formal request for a new data collection associated with the HHS Notice of Benefit and Payment Parameters for 2018 Final Rule (2018 Payment Notice). This ICR includes information collection requirements related to the ability of states to permit agents and brokers to assist qualified individuals, qualified employers, or qualified employees enrolling in Qualified Health Plans in the Federally Facilitated Exchange (§ 155.220) and ICRs related to non-exchange entities (§ 155.260). Form Number: CMS-10650 (OMB control number 0938-NEW); Frequency: Annually; Affected Public: Private Sector, State, Business, and Not-for Profits; Number of Respondents: 107,207; Number of Responses: 107,207; Total Annual Hours: 512,141. (For questions regarding this collection, contact Joshua Annas at (301-492-4407).

Dated: August 18, 2017.
Martique Jones,
Director, Regulations Development Group, Office of Strategic Operations and Regulatory Affairs.

[FR Doc. 2017-17918 Filed 8-23-17; 8:45 am]

BILLING CODE 4120-01-P